DEPARTMENT OF HEALTH AND HUMAN SERVICES

Administration for Children and Families

Submission for OMB Review; Comment Request

Title: Office of Community Services (OCS) Evaluation Initiatives: Community Economic Development (CED) and Job Opportunities for Low-Income (JOLI) Individuals.

OMB No.: 0970-0317.

Description: The Office of Community Services (OCS) is a component of the Administration for Children and Families (ACF), which is part of the U.S. Department of Health and Human Services (HHS). Part of OCS' responsibilities is the program administration of Federal grants awarded through an annual competitive process to support urban and rural community economic development projects carried out by local, non-profit, community-based organizations. The legislative requirement for these two programs is in Title IV of the Community Opportunities, Accountability and Training and Educational Services Act (COATS Human Services Reauthorization Act) of October 27, 2998, Pub. L. 105-285, section 680(b) as amended. The questionnaire will collect information concerning its outcomes and management. OCS will use the data to critically review the overall design and effectiveness of each program.

Respondents: OCS Grantees.

Annual Burden Estimates
Instrument | Number of respondents | Number of responses per respondent | Average burden hours per response | Total burden hours
Questionnaire for OCS-JOLI Grantees in the US | 25 JOLI grantees | 1 | 1.5 | 37.5
Questionnaire for OCS-CED Grantees in the US | 147 CED grantees | 1 | 1.5 | 220.5

Estimated Total Annual Burden Hours:

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-6974, Attn: Desk Officer for the Administration for Children and Families.

Dated: January 23, 2008.
Janean Chambers,
Reports Clearance Officer.

[FR Doc. 08-384 Filed 1-29-08; 8:45 am]

BILLING CODE 4184-01-M